DEPARTMENT OF TRANSPORTATION

Federal Aviation Administration

14 CFR Part 39

[Docket No. 2002-CE-58-AD; Amendment 39-13335; AD 2003-21-01]

RIN 2120-AA64

Airworthiness Directives; Univair Aircraft Corporation Models Alon A-2 and A2-A; ERCO 415-C, 415-CD, 415-D, 415-E, and 415-G; Forney F-1 and F-1A; and Mooney M10 Airplanes

AGENCY: Federal Aviation Administration (FAA), DOT.

ACTION: Final rule.

SUMMARY: The FAA supersedes Airworthiness Directive (AD) 94-18-04 R1, which currently applies to all Univair Aircraft Corporation (Univair) Models Alon A-2 and A2-A; ERCO 415-C, 415-CD, 415-D, 415-E, and 415-G; Forney F-1 and F-1A; and Mooney M10 airplanes. AD 94-18-04 R1 requires installing inspection openings in the outer wing panels, inspecting (one-time) the wing outer panel structural components for corrosion, and repairing any corroded wing outer panel structural component. Several reports of corrosion in the outer wing panels of the affected airplanes prompted that AD. This AD is the result of additional reports of corrosion on airplanes in compliance with AD 94-18-04 R1. This AD makes the inspection required in AD 94-18-04 R1 repetitive. We are issuing this AD to prevent wing damage caused by a corroded wing outer panel structural component, which, if not detected and corrected, could progress to the point of structural failure.

DATES: This AD becomes effective on December 1, 2003.

The Director of the Federal Register previously approved the incorporation by reference of Univair Aircraft Corporation Service Bulletin No. 29, Revision B, dated January 2, 1995, as of March 24, 1995 (60 FR 13626, March 14, 1995).

The Director of the Federal Register approved the incorporation by reference of Univair Aircraft Corporation Mandatory Service Bulletin No. 29, Revision C, dated July 8, 1999, as of December 1, 2003.

ADDRESSES: You may get the service information identified in this AD from Univair Aircraft Corporation, 2500 Himalaya Road, Aurora, Colorado 80011, telephone: (303) 375-8882; facsimile: (303) 375-8888.

You may view the AD docket at FAA, Central Region, Office of the Regional Counsel, Attention: Rules Docket No. 2002-CE-58-AD, 901 Locust, Room 506, Kansas City, Missouri 64106. Office hours are 8 a.m. to 4 p.m., Monday through Friday, except Federal holidays.

FOR FURTHER INFORMATION CONTACT: Roger Caldwell, Aerospace Engineer, FAA, Denver Aircraft Certification Office, 26805 East 68th Avenue, Room 214, Denver, Colorado 80249-6361; telephone: (303) 342-1086; facsimile: (303) 342-1088.

SUPPLEMENTARY INFORMATION:

Discussion

Has FAA taken any action to this point? Maintenance inspection procedures did not allow for thorough inspection of the wing structure on Univair Models Alon A-2 and A2-A; ERCO 415-C, 415-CD, 415-D, 415-E, and 415-G; Forney F-1 and F-1A; and Mooney M10 airplanes. This caused us to issue AD 94-18-04, Amendment 39-9017 (59 FR 43727, August 25, 1994) to require installing inspection openings in the outer wing panels, inspecting (one-time) the wing outer panel structure for corrosion, and repairing any corrosion found.

After AD 94-18-04 was issued, Univair revised Service Bulletin No. 29 to the Revision B level. Univair Service Bulletin No. 29, Revision B, dated January 2, 1995, changed the dimension of one of the openings to position it symmetrically between two ribs; and clarified the dimensioning system utilized in placement of the inspection openings. Univair SB No. 29, Revision B, also presented further discussion of the service difficulties encountered on the referenced subject and clarified the intent of the preliminary inspection procedure that may be accomplished prior to the installation of the inspection openings.

This caused us to issue AD 94-18-04 R1, Amendment 39-9173 (60 FR 62321, March 14, 1995).

What has happened since AD 94-18-04 R1 to initiate this action? The FAA has received additional reports of corrosion damage in the wing outer panel structural components continuing to go undetected. Univair has revised Service Bulletin No. 29 to the Revision C level, dated July 8, 1999. This revision changes the one-time inspection of the wing outer panel structural components for corrosion to a repetitive inspection.

What is the potential impact if FAA took no action? This condition, if not detected and corrected, could cause damage to the wing outer panel structural component. Such damage could result in structural failure.

Has FAA taken any action to this point? We issued a proposal to amend part 39 of the Federal Aviation Regulations (14 CFR part 39) to include an AD that would apply to all Univair Models Alon A-2 and A2-A; ERCO 415-C, 415-CD, 415-D, 415-E, and 415-G; Forney F-1 and F-1A, and Mooney M10. This proposal was published in the Federal Register as a notice of proposed rulemaking (NPRM) on May 30, 2003 (68 FR 32437). The NPRM proposed to supersede AD 94-18-04 R1 with a new AD that would retain the actions required in AD 94-18-04 R1 and make the one-time inspection of the wing outer panel structural components for corrosion a repetitive inspection.

Comments

Was the public invited to comment? We provided the public the opportunity to participate in the development of this AD. We received no comments on the proposal or on the determination of the cost to the public.

Conclusion

What is FAA's final determination on this issue? We have carefully reviewed the available data and determined that air safety and the public interest require adopting the AD as proposed except for minor editorial corrections. We have determined that these minor corrections:

—Provide the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 2,600 airplanes in the U.S. registry.

What is the cost impact of this AD on owners/operators of the affected airplanes? We estimate the following costs to accomplish the installation of the inspection openings:

Labor cost | Parts cost | Total cost per airplane
6 workhours × $60 per hour = $360 | $67 | $427

We estimate the following costs to accomplish the inspection:

Labor cost | Parts cost | Total cost per airplane | Total cost on U.S. operators
2 workhours × $60 per hour = $120 | Not applicable | $120 | $120 × 2,600 = $312,000

The FAA has no method of determining the number of repetitive inspections each owner/operator will incur over the life of each of the affected airplanes so the cost impact is based on the initial inspection.

The FAA has no method of determining the number of repairs or replacements each owner/operator will incur over the life of each of the affected airplanes based on the results of the inspections. We have no way of determining the number of airplanes that may need such repair. The extent of damage may vary on each airplane.

Compliance Time of This AD

What is the compliance time of this AD? The compliance time of this AD is “within the next 12 calendar months after the effective date of this AD.”

Why is the compliance time presented in calendar time instead of hours time-in-service (TIS)? The unsafe condition specified by this AD is caused by corrosion. Corrosion can occur regardless of whether the airplane is in operation or is in storage. Therefore, to assure that the unsafe condition specified in this AD does not go undetected for a long period of time, the compliance is presented in calendar time instead of hours TIS.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2002-CE-58-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 94-18-04 R1, Amendment 39-9173 (60 FR 62321, March 14, 1995), and by adding a new AD to read as follows:

2003-21-01 Univair Aircraft Corporation: Amendment 39-13335; Docket No. 2002-CE-58-AD; Supersedes AD 94-18-04 R1, Amendment 39-9173.

When Does This AD Become Effective?

(a) This AD becomes effective on December 1, 2003.

What Other ADs Are Affected by This Action?

(b) This AD supersedes AD 94-18-04 R1, Amendment 39-9173.

What Airplanes Are Affected by This AD?

(c) This AD affects the following airplane models and serial numbers that are certificated in any category:

Models | Serial Nos.
Alon A-2 and A2-A | All.
ERCO 415-C, 415-CD, 415-D, 415-E, and 415-G | All.
Forney F-1 and F-1A | All.
Mooney M10 | All.

What Is the Unsafe Condition Presented in This AD?

(d) This AD is the result of additional reports of corrosion on airplanes in compliance with AD 94-18-04 R1. The actions specified in this AD are intended to prevent wing damage caused by a corroded wing outer panel structural component, which, if not detected and corrected, could progress to the point of structural failure.

What Must I Do To Address This Problem?

(e) To address this problem, you must accomplish the following:

Actions | Compliance | Procedures
(1) Install inspection openings in the outer wing panels and inspect the wing outer panel internal structural components for corrosion and unrepaired corrosion damage | Within the next 12 calendar months after March 24, 1995 (the effective date of AD 94-18-04 R1), unless already accomplished | In accordance with Univair Service Bulletin No. 29, Revision B, dated January 2, 1995, or Univair Service Bulletin No. 29, Revision C, dated July 8, 1999, and Advisory Circular 43-4A, Corrosion Control for Aircraft.
(2) If corrosion or corrosion damage is found during the inspection required in paragraph (e)(1) of this AD, repair or replace components of the wing outer panel structure | Repair or replace prior to further flight after the inspection required in paragraph (e)(1) of this AD | In accordance with Univair Service Bulletin No. 29, Revision B, dated January 2, 1995, or Univair Service Bulletin No. 29, Revision C, dated July 8, 1999, the applicable maintenance manual, and Advisory Circular 43-4A, Corrosion Control for Aircraft.
(3) Repetitively inspect the wing outer panel internal structural components for corrosion and unrepaired corrosion damage | Initially inspect within the next 6 calendar months after December 1, 2003 (the effective date of this AD), unless the wing outer panel internal structure has been inspected for corrosion within the previous 6 calendar months immediately prior to December 1, 2003 (the effective date of this AD) Repetitively inspect thereafter at intervals not to exceed 12 calendar months after the last inspection. | In accordance with Univair Service Bulletin No. 29, Revision C, dated July 8, 1999, and Advisory Circular 43-4A, Corrosion Control for Aircraft.
(4) At any time corrosion or corrosion damage is found, repair or replace components of the wing outer panel structure | Repair or replace prior to further flight after the inspection in which the corrosion or corrosion damage is found. Continue with the repetitive inspection requirements of this AD | In accordance with Univair Service Bulletin No. 29, Revision B, dated January 2, 1995, or Univair Service Bulletin No. 29, Revision C, dated July 8, 1999, and Advisory Circular 43-4A, Corrosion Control for Aircraft.

Note: The compliance times specified in Univair Aircraft Corporation Service Bulletin No. 29, Revision B, dated January 2, 1995, or Univair Service Bulletin No. 29, Revision C, dated July 8, 1999, are different from those required by this AD. The compliance times in this AD take precedence over those in the service bulletin.

What About Alternative Methods of Compliance?

(f) You may request a different method of compliance or a different compliance time for this AD by following the procedures in 14 CFR 39.13.

(1) Send your request to the Manager, Denver Aircraft Certification Office (ACO). For information on any already approved alternative methods of compliance, contact Roger Caldwell, Aerospace Engineer, FAA, Denver Aircraft Certification Office, 26805 East 68th Avenue, Room 214, Denver, Colorado 80249-6361; telephone: (303) 342-1086; facsimile: (303) 342-1088.

(2) Alternative methods of compliance approved for the inspection required in AD 94-18-04 R1, which is superseded by this AD, are approved as alternative methods of compliance with this AD.

Is There Material Incorporated by Reference?

(g) You must do the actions required by this AD per Univair Aircraft Corporation Service Bulletin No. 29, Revision B, dated January 2, 1995, and Univair Service Bulletin No. 29, Revision C, dated July 8, 1999.

(1) The Director of the Federal Register approved the incorporation by reference of Univair Aircraft Corporation Mandatory Service Bulletin No. 29, Revision C, dated July 8, 1999, in accordance with 5 U.S.C. 552(a) and 1 CFR part 51. You may get a copy from Univair Aircraft Corporation, 2500 Himalaya Road, Aurora, Colorado 80011, telephone: (303) 375-8882; facsimile: (303) 375-8888.

(2) The Director of the Federal Register previously approved the incorporation by reference of Univair Aircraft Corporation Service Bulletin No. 29, Revision B, dated January 2, 1995, as of March 24, 1995 (60 FR 13626, March 14, 1995).

(3) You may review copies at FAA, Central Region, Office of the Regional Counsel, 901 Locust, Room 506, Kansas City, Missouri 64106; or at the Office of the Federal Register, 800 North Capitol Street, NW., suite 700, Washington, DC.

Issued in Kansas City, Missouri, on October 6, 2003.
James E. Jackson,
Acting Manager, Small Airplane Directorate, Aircraft Certification Service.

[FR Doc. 03-25699 Filed 10-10-03; 8:45 am]

BILLING CODE 4910-13-P